DEPARTMENT OF DEFENSE

Department of the Navy

Notice of Intent To Grant Exclusive Patent License; Cellphire, Inc.

AGENCY: Department of the Navy, DoD.

ACTION: Notice.

SUMMARY: The Department of the Navy hereby gives notice of its intent to grant to Cellphire, Inc., a revocable, nonassignable, exclusive license to practice in the field of use in transfusable therapeutics; topical therapeutics for hemostasis and wound care; and reagents for hematology analysis, clinical diagnostics, and research in the United States and certain foreign countries, the Government-owned invention described in U.S. Patent No. 5,736,313 entitled “A Method of Lyophilizing Platelets by Incubation with High Carbohydrate Concentrations and Supercooling Prior to Freezing”, Navy Case No. 76,086 and any continuations, divisionals or re-issues thereof.

DATES: Anyone wishing to object to the grant of this license must file written objections along with supporting evidence, if any, not later than July 3, 2007.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone 202-767-3083. Due to U.S. Postal delays, please fax 202-404-7920, e-mail: rita.manak@nrl.navy.mil or use courier delivery to expedite response.

(Authority: 35 U.S.C. 207, 37 CFR part 404.)

Dated: 11 June 2007.
L.R. Almand,
Office of the Judge Advocate General, Administrative Law Division, Federal Register Liaison Officer.

[FR Doc. E7-11671 Filed 6-15-07; 8:45 am]

BILLING CODE 3810-FF-P